ENVIRONMENTAL PROTECTION AGENCY

40 CFR Part 52

[CA191-0278b; FRL-6963-2]

Revisions to the California State Implementation Plan, Ventura County Air Pollution Control District

AGENCY: Environmental Protection Agency (EPA).

ACTION: Proposed rule.

SUMMARY: EPA is proposing to approve revisions to the Ventura County Air Pollution Control District's (VCAPCD) portion of the California State Implementation Plan (SIP). These revisions concern volatile organic compound (VOC) emissions from the following source categories: metal parts and products coating, aerospace assembly and component manufacturing, motor vehicle and mobile equipment coating, graphic arts, marine coatings, and wood products coatings. We are proposing to approve local rules to regulate these emission sources under the Clean Air Act as amended in 1990 (CAA or the Act).

DATES: Any comments on this proposal must arrive by May 21, 2001.

ADDRESSES: Mail comments to Andy Steckel, Rulemaking Office Chief (AIR-4), U.S. Environmental Protection Agency, Region IX, 75 Hawthorne Street, San Francisco, CA 94105-3901.

You can inspect copies of the submitted SIP revisions and EPA's technical support documents (TSDs) at our Region IX office during normal business hours. You may also see copies of the submitted SIP revisions at the following locations:

California Air Resources Board, Stationary Source Division, Rule Evaluation Section, 1001 “I” Street, Sacramento, CA 95814; and,

Ventura County Air Pollution Control District, 669 County Square Drive, Ventura, CA 93003.

FOR FURTHER INFORMATION CONTACT: Jerald S. Wamsley, Rulemaking Office (AIR-4), U.S. Environmental Protection Agency, Region IX, (415) 744-1226.

SUPPLEMENTARY INFORMATION: This proposal concerns the following VCAPCD rules: Rule 74.12—Surface Coating of Metal Parts & Products; Rule 74.13—Aerospace Assembly & Component Manufacturing; Rule 74.18—Motor Vehicle and Mobile Equipment Coating; Rule 74.19—Graphic Arts; Rule 74.24—Marine Coatings; and, Rule 74.30—Wood Products Coatings. In the Rules and Regulations section of this Federal Register, we are approving these local rules in a direct final action without prior proposal because we believe these SIP revisions are not controversial. However, if we receive adverse comments, we will publish a timely withdrawal of the direct final rule and address the comments in subsequent action based on this proposed rule. We do not plan to open a second comment period, so anyone interested in commenting should do so at this time. If we do not receive adverse comments, no further activity is planned. For further information, please see the direct final action.

Dated: March 19, 2001.
Mike Schulz,
Acting Regional Administrator, Region IX.

[FR Doc. 01-9591 Filed 4-18-01; 8:45 am]

BILLING CODE 6560-50-U